DEPARTMENT OF THE INTERIOR

National Park Service

[NPS-WASO-NRNHL-DTS#-27189; PPWOCRADI0, PCU00RP14.R50000]

National Register of Historic Places; Notification of Pending Nominations and Related Actions

AGENCY: National Park Service, Interior.

ACTION: Notice.

SUMMARY: The National Park Service is soliciting comments on the significance of properties nominated before December 15, 2018, for listing or related actions in the National Register of Historic Places.

DATES: Comments should be submitted by January 14, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 15, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Celebrity Theatre, 440 N 32nd St., Phoenix, SG100003323

ARKANSAS

Benton County

Rogers Milk Plant Building, 218 W Birch St., Rogers, SG100003324

Cleveland County

Magnolia Petroleum Company Filling Station, (Arkansas Highway History and Architecture MPS), SW of intersection of Larch & 1st Sts., Kingsland, MP100003325

Garland County

Tribble, Dr. Albert H., House, 100 Trivista Right, Hot Springs, SG100003327

Independence County

Batesville Commercial Historic District (Boundary Increase III), Roughly Main between State & 5th Sts., Broad between Main & Boswell Sts., Central Ave., between College Ave. & RR., Batesville, BC100003328

Jefferson County

Pine Bluff Arsenal Access Road Bridge No. 2280, AR 256 over Caney Cr., White Hall, SG100003330

Lafayette County

Gulf Oil Company Filling Station, (Arkansas Highway History and Architecture MPS), 131 Main St., Stamps, MP100003331

Mississippi County

Wilson Motor Company, (Arkansas Highway History and Architecture MPS), 42 Cortez Kennedy Ave., Wilson, MP100003332

Phillips County

Lakeview Resettlement Project Historic District, Near the jct. of AR 85 & AR 44, Lake View, SG100003357

Pulaski County

Blass, Noland, Jr., House, 217 Normandy Rd., Little Rock, SG100003333

Ross Building, 700 S Schiller St., Little Rock, SG100003334

Rush, Gene, House, 9515 Barrett Rd., Roland, SG100003335

Towbin, Dr. Eugene, House, 16 Broadview Dr., Little Rock, SG100003336

Winchester Auto Store, 323 W 8th St., Little Rock, SG100003337

Randolph County

Pocahontas Federal Savings and Loan, 201 W Broadway St., Pocahontas, SG100003338

Searcy County

Oak Hill School House (Searcy County MPS), 151 Little Oak Hill Rd., Marshall, MP100003339

Union County

Oakland, 3800 Calion Rd., El Dorado, SG100003358

MISSISSIPPI

Adams County

Concord Quarters, 301 Gayosa St., Natchez, SG100003342

Covington County

Carver Central High School, 104 Carver Dr., Collins, SG100003344

Hinds County

Spengler's Corner Historic District (Boundary Increase and Additional Documentation), 400 blk. E Capitol, 100-300 blks N State & 100 blk. N & S President Sts., Jackson, BC100003351

Jefferson County

Jefferson Chapel A.M.E. Church and Cemetery, 291 Chapel Hill Rd., Natchez vicinity, SG100003343

Pearl River County

Shaw Homestead, 1214 Barth Rd., Poplarville vicinity, SG100003345

Sharkey County

Georgianna, SW of jct. of Powell & Cary-Blanton Rds., Cary vicinity, SG100003353

Tallahatchie County

Harrison, Dr. Tandy and Sarah, House, 112 S Panola St., Charleston, SG100003346

Warren County

Tri-State Motor Coach Station, 1511 Walnut St., Vicksburg, SG100003347

TEXAS

Bandera County

River Oaks Courts, 14349 TX 16, Medina, SG100003354

VIRGINIA

Halifax County

Vaughan House, 1014 Washington Ave., South Boston, SG100003348

Rappahannock County

Washington School (Rosenwald Schools in Virginia MPS), 267 Piedmont Ave., Washington, MP100003349

Salem Independent City

Peacock-Salem Launderers and Cleaners, 231 S Colorado St., Salem (Independent City), SG100003350

In the interest of preservation, a SHORTENED comment period has been requested for the following resources:

COLORADO

Rio Blanco County

Meeker Historic District, Main, 4th, 5th, 6th, 7th & 8th Sts., Meeker, SG100003359, Comment period: 3 days

GEORGIA

Chatham County

Carver Village Historic District, Bounded by W Gwinnett & Endley Sts., Allen Blun, & Collat Aves., Savannah, SG100003340, Comment period: 3 days

A request for removal has been made for the following resources:

ARKANSAS

Crawford County

Lee Creek Bridge (Historic Bridges of Arkansas MPS), AR 59, over Lee Creek, Natural Dam, OT90000508

Jefferson County

Gracie House (Thompson, Charles L., Design Collection TR), Off AR 88, New Gascony, OT82000846

Additional documentation has been received for the following resource:

ARKANSAS

Benton County

Siloam Springs Downtown Historic District (Additional Documentation) (Benton County MRA), Roughly bounded by Sager Cr., Ashley St., Madison Ave. and Twin Springs St., Siloam Springs, AD94001338

Nomination submitted by Federal Preservation Officer:

The State Historic Preservation Officer reviewed the following nomination and responded to the Federal Preservation Officer within 45 days of receipt of the nomination and supports listing the property in the National Register of Historic Places.

MICHIGAN

Keweenaw County

Minong, Isle Royale NP, Isle Royale NP, SG100003341

Authority: Section 60.13 of 36 CFR part 60.

Dated: December 17, 2018.
Christopher Hetzel,
Acting Chief, National Register of Historic Places/National Historic Landmarks Program.

[FR Doc. 2018-28229 Filed 12-27-18; 8:45 am]

BILLING CODE 4312-52-P